DEPARTMENT OF ENERGY

Federal Energy Regulatory Commission

[Docket Nos. RD23-2-001; AD21-15-000]

North American Electric Reliability Corporation, Joint Federal-State Task Force on Electric Transmission; Notice of North American Electric Reliability Corporation Physical Security Reliability Standards Study and Inviting Post-Meeting Comments

On February 15, 2023, in Docket No. AD21-15-000, the Joint Federal-State Task Force on Electric Transmission (Task Force) convened for a public meeting to discuss physical security of the transmission system.

On April 14, 2023, in Docket No. RD23-2-001, the North American Electric Reliability Corporation (NERC) submitted its report on its study evaluating Reliability Standard CIP-014-3, as directed by the Commission's December 15, 2022 order.¹

¹ N. Am. Elec. Reliability Corp., 181 FERC ¶ 61,230 (2022).

All interested persons are invited to file comments no later than May 15, 2023. Submitting a single document for both dockets is encouraged but not required.

Comments may be filed electronically via the internet.² Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, MD 20852.

² See 18 CFR 385.2001(a)(1)(iii) (2022).

For more information related to NERC's study report, please contact Leigh Anne Faugust, (202) 502-6396, or leigh.faugust@ferc.gov. For more information related to the Task Force, please contact Gretchen Kershaw, (202) 502-8213, or gretchen.kershaw@ferc.gov.

Dated: April 18, 2023.
Debbie-Anne A. Reese,
Deputy Secretary.

[FR Doc. 2023-08610 Filed 4-21-23; 8:45 am]

BILLING CODE 6717-01-P